SMALL BUSINESS ADMINISTRATION

[Disaster Declaration #16893 and #16894; Louisiana Disaster Number LA-00110]

Presidential Declaration of a Major Disaster for the State of Louisiana

AGENCY: U.S. Small Business Administration.

ACTION: Notice.

SUMMARY: This is a Notice of the Presidential declaration of a major disaster for the State of Louisiana (FEMA-4590-DR), dated 03/09/2021.

Incident: Severe Winter Storms.

Incident Period: 02/11/2021 through 02/19/2021.

DATES: Issued on 03/09/2021.

Physical Loan Application Deadline Date: 05/10/2021.

Economic Injury (EIDL) Loan Application Deadline Date: 12/09/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 03/09/2021, applications for disaster loans may be filed at the address listed above or other locally announced locations. The following areas have been determined to be adversely affected by the disaster:

Primary Parishes (Physical Damage and Economic Injury Loans):

Avoyelles, Bienville, Bossier, Caddo, Calcasieu, Catahoula, Claiborne, Concordia, De Soto, East Baton Rouge, Franklin, Grant, La Salle, Madison, Natchitoches, Ouachita, Rapides, Red River, Richland, Sabine, Webster, West Carroll, Winn.

Contiguous Parishes/Counties (Economic Injury Loans Only):

Louisiana: Allen, Ascension, Beauregard, Caldwell, Cameron, East Carroll, East Feliciana, Evangeline, Iberville, Jackson, Jefferson Davis, Lincoln, Livingston, Morehouse, Pointe Coupee, Saint Helena, Saint Landry, Tensas, Union, Vernon, West Baton Rouge, West Feliciana.

Arkansas: Chicot, Columbia, Lafayette, Miller, Union.

Mississippi: Adams, Warren, Wilkinson.

Texas: Cass, Harrison, Marion, Newton, Orange, Panola, Sabine, Shelby.

The Interest Rates are:

| Percent
For Physical Damage:
Homeowners with Credit Available Elsewhere | 2.500
Homeowners without Credit Available Elsewhere | 1.250
Businesses with Credit Available Elsewhere | 6.000
Businesses without Credit Available Elsewhere | 3.000
Non-Profit Organizations with Credit Available Elsewhere | 2.000
Non-Profit Organizations without Credit Available Elsewhere | 2.000
For Economic Injury:
Businesses & Small Agricultural Cooperatives without Credit Available Elsewhere | 3.000
Non-Profit Organizations without Credit Available Elsewhere | 2.000

The number assigned to this disaster for physical damage is 16893 7 and for economic injury is 16894 0.

(Catalog of Federal Domestic Assistance Number 59008)

Cynthia Pitts,
Acting Associate Administrator for Disaster Assistance.

[FR Doc. 2021-05243 Filed 3-12-21; 8:45 am]

BILLING CODE 8026-03-P